DEPARTMENT OF ENERGY

Federal Energy Regulatory Commission

[Docket No. EC02-8-000, et al.]

Metro Energy, L.L.C., et al.; Electric Rate and Corporate Regulation Filings

October 24, 2001.

Take notice that the following filings have been made with the Commission:

1. Metro Energy, L.L.C.

[Docket No. EC02-8-000]

Take notice that on October 19, 2001, Metro Energy, L.L.C. (Metro Energy), filed with the Federal Energy Regulatory Commission (Commission), an application pursuant to section 203 of the Federal Power Act (16 U.S.C. 842b) and part 33 of the Commission's Regulations for authorization of the transfer to the Charter County of Wayne, Michigan (County) of certain interconnection facilities which may be regarded as jurisdictional facilities and which are appurtenant to the 17.1 MW natural-gas fueled generating facility that Metro Energy is transferring to the County.

Comment date: November 9, 2001, in accordance with Standard Paragraph E at the end of this notice.

2. American Transmission Company LLC

[Docket No. EC02-9-000]

Take notice that on October 18, 2001, American Transmission Company LLC (ATCLLC), tendered for filing with the Federal Energy Regulatory Commission (Commission), an Application for Authorization to Transfer Operational Control of Jurisdictional Transmission Facilities to the Midwest Independent Transmission System Operator, Inc. pursuant to section 203 of the Federal Power Act and part 33 of the Commission's regulations, 18 CFR 33.1.

Comment date: November 8, 2001, in accordance with Standard Paragraph E at the end of this notice.

3. Arizona Public Service Company, El Paso Electric Company, Public Service Company of New Mexico, Tucson Electric Power Company, WestConnect RTO, LLC

[Docket No. EL02-9-000]

Take notice that on October 16, 2001, Arizona Public Service Company, El Paso Electric Company, Public Service Company of New Mexico, and Tucson Electric Power Company filed pursuant to Rule 207 of the Rules of Practice and Procedure of the Federal Energy Regulatory Commission (Commission), 18 CFR 385.207, and the Commission's Regional Transmission Organization (RTO) rules at 18 CFR 35.34(d)(3) and (4), a petition for Declaratory Order seeking confirmation that their joint proposal to form WestConnect RTO, LLC (WestConnect) meets or exceeds the Commission's requirements for the formation of RTOs under Order No. 2000.

Comment date: November 15, 2001, in accordance with Standard Paragraph E at the end of this notice.

4. Consumers Energy Company

[Docket Nos. ER92-331-009 and ER92-332-009]

Take notice that on October 22, 2001, Consumers Energy Company (Consumers) tendered for filing with the Federal Energy Regulatory Commission (Commission) the following substitute tariff sheets as part of its FERC Electric Tariff No. 5 in compliance with the October 5, 2001 letter order, and previous orders, issued in these proceedings; Second Sub Original Sheet Nos. 2.00, 10.00, 11.00 and 12.00.

The first sheet listed is to have an effective date of June 21, 1993. The remaining three sheets are to have an effective date of May 2, 1992. Copies of these sheets were served upon the Michigan Public Service Commission and upon those on the official service lists in these proceeding.

Comment date: November 13, 2001, in accordance with Standard Paragraph E at the end of this notice.

5. PacifiCorp

[Docket No. ER01-1152-003]

Take notice that PacifiCorp on October 22, 2001, tendered for filing with the Federal Energy Regulatory Commission (Commission) an amendment to its January 30, 2001 filing of a revised Exhibit C to the contract for Interconnections and Transmission Service between PacifiCorp and Western Area Power Administration (Western), Contract No. 14-06-400-2436, Supplement No. 2 (PacifiCorp's Rate Schedule FERC No. 262). The revisions modify the rates charged to Western for Block 2 transmission service. Copies of this filing were supplied to the Washington Utilities and Transportation Commission and the Public Utility Commission of Oregon.

PacifiCorp has requested an effective date of April 1, 2001.

Comment date: November 13, 2001, in accordance with Standard Paragraph E at the end of this notice.

6. Mountain View Power Partners II, LLC

[Docket No. ER01-1336-001]

Take notice that on October 22, 2001, Mountain View Power Partners II, LLC (Mountain View II) filed with the Federal Energy Regulatory Commission (Commission) a Notice of Change in Status with the Commission in accordance with the delegated letter order issued April 6, 2001 in Mountain View Power Partners II, LLC, Docket No. ER01-1336-000, accepting for filing Mountain View II's marked-based rate tariff. The Notice of Change in Status reports that the change in ownership of Mountain View II that was described in its market-based rate application filed with the Commission on February 27, 2001 in the above-referenced docket, has occurred.

Comment date: November 13, 2001, in accordance with Standard Paragraph E at the end of this notice.

7. Public Service Company of New Mexico

[Docket No. ER01-2566-002]

Take notice that on October 22, 2001, Public Service Company of New Mexico (PNM) submitted for filing with the Federal Energy Regulatory Commission (Commission) a supplement to its filing in this proceeding to respond to a letter dated September 21, 2001, from the Director, Division of Tariffs and Rates + West, notifying PNM that its original filing was deficient. This supplement provides additional information concerning the Wholesale Requirements Power Sale and Services Agreement (Agreement) between PNM and Texas-New Mexico Power Company (TNMP) filed by PNM in this proceeding. Specifically, the supplement provides additional information concerning transmission service associated with sales to TNMP pursuant to the Agreement, as well as additional information concerning charges for ancillary services. The supplement includes an amended version of the Agreement, designated as Substitute Service Agreement No. 28 under PNM's FERC Electric Tariff, First Revised Volume No. 3.

Copies of this filing have been served upon TNMP, Southwestern Public Service Company, and the New Mexico Public Regulation Commission.

Comment date: November 13, 2001, in accordance with Standard Paragraph E at the end of this notice.

8. ODEC Power Trading, Inc.

[Docket No. ER01-2783-001]

Take notice that on October 22, 2001, ODEC Power Trading, Inc. (OPT) filed with the Federal Energy Regulatory Commission (Commission) an Amendment to its application for blanket authority to sell wholesale power at market-based rates (Docket No. ER01-2783-000). OPT's Amendment is filed pursuant to section 205 of the Federal Power Act and Rules 205 and 207 of Commission's Rules of Practice and Procedure, 18 CFR 385.205 and 385.207.

Comment date: November 13, 2001, in accordance with Standard Paragraph E at the end of this notice.

9. PacifiCorp

[Docket No. ER01-3071-001]

Take notice that on October 22, 2001, PacifiCorp, tendered for filing with the Federal Energy Regulatory Commission (Commission) in accordance with 18 CFR Section 35 of the Commission's Rules and Regulations, an Amendatory Agreement No. 1 to Service Agreement No. 50 under PacifiCorp's FERC Electric Tariff, Volume No. 12 dated October 12, 2001 between Flathead and PacifiCorp.

Copies of this filing were supplied to the Washington Utilities and Transportation Commission and the Public Utility Commission of Oregon.

Comment date: November 13, 2001, in accordance with Standard Paragraph E at the end of this notice.

10. PPL Electric Utilities Corporation

[Docket No. ER02-128-001]

Take notice that on October 23, 2001, PPL Electric Utilities Corporation (PPL Electric) and Williams Generation Company—Hazleton (WGC) filed with the Federal Energy Regulatory Commission (Commission) Exhibit C to an Interconnection Agreement between PPL Electric and WGC. The Interconnection Agreement originally filed with the Commission on October 18, 2001 inadvertently omitted the contents of Exhibit C.

PPL Electric and WGC request an effective date of October 19, 2001 for the Interconnection Agreement.

Comment date: November 13, 2001, in accordance with Standard Paragraph E at the end of this notice.

11. PJM Interconnection, L.L.C.

[Docket No. ER02-131-000]

Take notice that on October 19, 2001, PJM Interconnection, L.L.C. (PJM), submitted for filing with the Federal Energy Regulatory Commission (Commission) amendments to the Amended and Restated Operating Agreement of PJM Interconnection, L.L.C. and PJM's FERC Electric Tariff, Third Revised Volume No. 1 to permit Market Sellers the option of requesting cost-based start-up fees in their Offer Data that are modifiable on a daily basis.

Copies of this filing were served upon all PJM members and each state electric utility regulatory commission in the PJM control area.

Comment date: November 9, 2001, in accordance with Standard Paragraph E at the end of this notice.

12. American Transmission Systems, Incorporated

[Docket No. ER02-132-000]

Take notice that on October 19, 2001, American Transmission Systems, Incorporated (ATSI) tendered for filing with the Federal Energy Regulatory Commission (Commission) a Generator Interconnection and Operating Agreement to provide a connection of electric generating facilities owned and operated by Fremont Energy Center, L.L.C. (Fremont) to the FirstEnergy Transmission System and for coordination of the operation and maintenance of those facilities with ATSI. The proposed effective date for the Generator Interconnection and Operating Agreement is September 19, 2001.

Copies of this filing have been served on the Ohio and Pennsylvania utility commissions and Fremont.

Comment date: November 9, 2001, in accordance with Standard Paragraph E at the end of this notice.

13. Wisconsin Public Service Corporation

[Docket No. ER02-133-000]

Take notice that on October 19, 2001, Wisconsin Public Service Corporation (WPSC) tendered for filing with the Federal Energy Regulatory Commission (Commission) a revised partial requirements service agreement with Washington Island (WIEC). Second Revised Service Agreement No. 9 provides WIEC's contract demand nominations for January 2002—December 2002, under WPSC's W-2A partial requirements tariff.

The company states that copies of this filing have been served upon WIEC and to the State Commissions where WPSC serves at retail.

Comment date: November 9, 2001, in accordance with Standard Paragraph E at the end of this notice.

14. Consumers Energy Company

[Docket No. ER02-134-000]

Take notice that on October 18, 2001 Consumers Energy Company (Consumers) tendered for filing with the Federal Energy Regulatory Commission (Commission) a Service Agreement with Carolina Power & Light Company, (Customer) under Consumer's FERC Electric Tariff No. 9 for Market Based Sales. Consumers requested that the Agreement be allowed to become effective as of September 27, 2001.

Copies of the filing were served upon the Customer and the Michigan Public Service Commission.

Comment date: November 8, 2001, in accordance with Standard Paragraph E at the end of this notice.

15. Mid-Continent Area Power Pool

[Docket No. ER02-135-000]

Take notice that on October 19, 2001, the Mid-Continent Area Power Pool (MAPP), on behalf of its members that are subject to Commission jurisdiction as public utilities under section 201(e) of the Federal Power Act, filed with the Federal Energy Regulatory Commission (Commission) an amendment to Schedule R of the Restated Agreement that would extend provision of the redispatch service from October 31, 2001 to October 31, 2002.

Comment date: November 9, 2001, in accordance with Standard Paragraph E at the end of this notice.

16. West Penn Power Company

[Docket No. ER02-136-000]

Take notice that on October 19, 2001 West Penn Power Company filed with the Federal Energy Regulatory Commission (Commission) a unilateral addendum to its agreement for service to Allegheny Electric Cooperative, Inc. West Penn recites that the addendum contains terms and conditions proposed by West Penn for a one-year renewal period of that agreement.

Comment date: November 9, 2001, in accordance with Standard Paragraph E at the end of this notice.

17. Mohawk River Funding III, L.L.C.

[Docket No. ER02-137-000]

Take notice that on October 19, 2001, Mohawk River Funding III, L.L.C. (Mohawk), filed with the Federal Energy Regulatory Commission (Commission) an application asking that the Commission accept for filing an Amended and Restated PPA (designated as Mohawk River Funding III, L.C. Rate Schedule FERC No. 1), thereby authorizing Mohawk to engage in the wholesale sales of energy and capacity under the Amended and Restated PPA at the market-based rates to which the parties have agreed, and grant other waivers, approvals, and authorizations requested in the application.

Mohawk is a limited liability company formed under the laws of Delaware. Mohawk does not own any generating facilities.

Comment date: November 9, 2001, in accordance with Standard Paragraph E at the end of this notice.

18. Northern Indiana Public Service Company

[Docket No. ER02-138-000]

Please take notice that on October 22, 2001, Northern Indiana Public Service Company (NIPSCO), a wholly owned subsidiary of NiSource Inc., tendered for filing with the Federal Energy Regulatory Commission (Commission) a Service Agreement. NIPSCO seeks an effective date of December 21, 2001, for the tariff sheets submitted with this filing.

NIPSCO states that pursuant to the Service Agreement, it will be authorized to sell electric energy, from time to time, to its marketing affiliate, EnergyUSA-TPC Corp. (TPC). The rate applicable to any such sales will be no lower than the published “Into-Cinergy” price for the applicable time period. The “Into-Cinergy” rate will act as a guarantee against potential affiliate concerns. Under the terms of the proposed Service Agreement, neither TPC nor NIPSCO shall be required to undertake any sales or purchases of electric energy.

Comment date: November 13, 2001, in accordance with Standard Paragraph E at the end of this notice.

19. Florida Power & Light Company

[Docket No. ER02-139-000]

Take notice that on October 22, 2001, Florida Power & Light Company (FPL) filed with the Federal Energy Regulatory Commission (Commission), pursuant to Section 205 of the Federal Power Act, an executed Interconnection & Operation Agreement between FPL and CPV Atlantic, Ltd.

Comment date: November 13, 2001, in accordance with Standard Paragraph E at the end of this notice.

20. Wisconsin Public Service Corporation

[Docket No. ER02-140-000]

Take notice that on October 22, 2001, Wisconsin Public Service Corporation (WPSC) tendered for filing with the Federal Energy Regulatory Commission (Commission) a revised partial requirements service agreement with Manitowoc Public Utilities (MPU). Second Revised Service Agreement No. 5 provides MPU's contract demand nominations for January 2002-December 2002, under WPSC's W-2A partial requirements tariff.

The company states that copies of this filing have been served upon MPU and to the State Commissions where WPSC serves at retail.

Comment date: November 13, 2001, in accordance with Standard Paragraph E at the end of this notice.

21. Michigan Electric Transmission Company

[Docket No. ER02-142-000]

Take notice that on October 22, 2001, Michigan Electric Transmission Company (Michigan Transco) tendered for filing with the Federal Energy Regulatory Commission (Commission) executed Service Agreements for Firm and Non-Firm Point-to-Point Transmission Service with Dynegy Power Marketing (Customer) pursuant to the Joint Open Access Transmission Service Tariff filed on February 22, 2001 by Michigan Transco and International Transmission Company (ITC). Copies of the filed agreements were served upon the Michigan Public Service Commission, ITC, and the Customer.

Michigan Transco is requesting an effective date of October 15, 2001 for the Agreements.

Comment date: November 13, 2001, in accordance with Standard Paragraph E at the end of this notice.

22. American Electric Power Service Corporation

[Docket No. ER02-141-000]

Take notice that on October 22, 2001, the American Electric Power Service Corporation (AEPSC) tendered for filing with the Federal Energy Regulatory Commission (Commission) ten replacement blanket Service Agreements for existing customers under the AEP Companies' Power Sales Tariffs; AEPSC's request to terminate several Service Agreements under the Power Sales Tariffs and; various Counterparty requests to assign their Service Agreement under AEPSC's Power Sales Tariffs to other entities because of a merger or acquisition. The Power Sales Tariffs were accepted for filing effective October 10, 1997 and has been designated AEP Operating Companies' FERC Electric Tariff Original Volume No. 5 (Wholesale Tariff of the AEP Operating Companies) and FERC Electric Tariff Original Volume No. 8, Effective January 8, 1998 in Docket ER 98-542-000 (Market-Based Rate Power Sales Tariff of the CSW Operating Companies). AEPSC respectfully requests waiver of notice to permit the attached Service Agreements to be made effective on or prior to September 20, 2001. AEPSC also respectively requests that the Commission accepts its request to terminate those Service Agreements identified in Exhibit 2 and the assignments identified in Exhibit 3 to be effective on, or prior to September 20, 2001.

A copy of the filing was served upon the Parties and the State Utility Regulatory Commissions of Arkansas, Indiana, Kentucky, Louisiana, Michigan, Ohio, Oklahoma, Tennessee, Texas, Virginia and West Virginia.

Comment date: November 13, 2001, in accordance with Standard Paragraph E at the end of this notice.

23. Commonwealth Edison Company

[Docket No. ER02-143-000]

Take notice that on October 22, 2001, Commonwealth Edison Company (ComEd) submitted for filing with the Federal Energy Regulatory Commission (Commission) an amended Form of Service Agreement for Firm Point-To-Point Transmission Service (Amended Service Agreement) between ComEd and Exelon Generation Company, LLC (Exelon) under the terms of ComEd's Open Access Transmission Tariff (OATT). ComEd asks that the Amended Service Agreement supersede and be substituted for the Service Agreement with Exelon previously filed on August 21, 2001 in Docket No. ER01-2897-000. The Amended Service Agreement has been amended to change the roll-over rights from pending to granted. Copies of this filing were served on Exelon.

ComEd requests an effective date of October 5, 2001 for the Amended Service Agreement, and waiver of the Commission's notice requirements.

Comment date: November 13, 2001, in accordance with Standard Paragraph E at the end of this notice.

24. Entergy Services, Inc.

[Docket No. ER02-144-000]

Take notice that on October 22, 2001, Entergy Services, Inc., on behalf of Entergy Gulf States, Inc., tendered for filing with the Federal Energy Regulatory Commission (Commission) a unilaterally executed Interconnection and Operating Agreement with Mobil Oil Corporation (Mobil), and a Generator Imbalance Agreement with Mobil.

Comment date: November 13, 2001, in accordance with Standard Paragraph E at the end of this notice.

25. New England Power Pool

[Docket No. ER02-145-000]

Take notice that on October 22, 2001, the New England Power Pool (NEPOOL) submitted to the Federal Energy Regulatory Commission (Commission) the Seventy-Seventh Agreement Amending the Restated NEPOOL Agreement ( the Seventy-Seventh Agreement), which corrects and updates certain provisions of the NEPOOL Tariff to reflect recently completed merger activity among various NEPOOL Participants, and corrects certain other incorrect references in various defined terms in the NEPOOL Tariff. NEPOOL also filed on October 22, 2001 certain changes to the NEPOOL Tariff Attachment F Implementation Rule, which correct incorrect references in various defined terms of the Implementation Rule and are not substantive. NEPOOL states that these changes will not increase rates.

NEPOOL request a January 1, 2002 effective date.

Comment date: November 13, 2001, in accordance with Standard Paragraph E at the end of this notice.

Standard Paragraph

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-27330 Filed 10-30-01; 8:45 am]

BILLING CODE 6717-01-P